CONSUMER PRODUCT SAFETY COMMISSION

Sunshine Act Meeting Notice

TIME AND DATE: Wednesday, February 20, 2019; 10:00 a.m.*

PLACE: Hearing Room 420, Bethesda Towers, 4330 East-West Highway, Bethesda, MD 20814.

STATUS: Commission Meeting—Closed to the Public.

MATTER TO BE CONSIDERED: Compliance Matters: Staff will brief the Commission on the status of two compliance matters.

CONTACT PERSON FOR MORE INFORMATION: Alberta E. Mills, Secretary, Division of the Secretariat, Office of the General Counsel, U.S. Consumer Product Safety Commission, 4330 East-West Highway, Bethesda, MD 20814, (301) 504-7479.

* For Compliance Matter No. 1, the Commission determined by recorded vote (4-0-1) that Agency business requires calling the meeting without seven calendar days advance public notice. For Compliance Matter No. 2, the Commission unanimously determined by recorded vote that Agency business requires calling the meeting without seven calendar days advance public notice.

Dated: February 14, 2019.
Alberta E. Mills,
Secretary.

[FR Doc. 2019-02809 Filed 2-14-19; 4:15 pm]

BILLING CODE 6355-01-P